DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker licenses are cancelled without prejudice.

Name | License No. | Issuing Port
Open Harbor, Inc. | 21902 | San Francisco.
Associated Customhouse Brokers, Inc. | 9706 | Tampa.
World Broker Puerto Rico, Inc. | 21326 | San Juan.
Sig M. Glukstad, Inc. dba Miami International Forwarders | 6090 | Miami.

Dated: August 12, 2005.
Jayson P. Ahern,
Assistant Commissioner, Office of Field Operations.

[FR Doc. 05-16375 Filed 8-17-05; 8:45 am]

BILLING CODE 4820-02-P